DEPARTMENT OF COMMERCE

National Telecommunications and Information Administration

DEPARTMENT OF TRANSPORTATION

National Highway Traffic Safety Administration

47 CFR Part 400

[Docket No. 170420407-8048-02]

RIN 0660-AA33; RIN 2127-AL86

911 Grant Program

AGENCY: National Telecommunications and Information Administration (NTIA), Commerce (DOC); and National Highway Traffic Safety Administration (NHTSA), Department of Transportation (DOT).

ACTION: Final rule; correcting amendments.

SUMMARY: On August 3, 2018, the National Telecommunications and Information Administration (NTIA) and the National Highway Traffic Safety Administration (NHTSA) published a final rule that revised the implementing regulations for the 911 Grant Program, as a result of the enactment of the Next Generation 911 (NG911) Advancement Act of 2012. This document corrects numbering errors in the regulatory text.

DATES: Effective on August 14, 2018.

FOR FURTHER INFORMATION CONTACT: Michael Vasquez, Attorney-Advisor, Office of the Chief Counsel, National Telecommunications and Information Administration, U.S. Department of Commerce, 1401 Constitution Avenue NW, Room 4713, Washington, DC 20230; telephone: (202) 482-1816; email: MVasquez@ntia.doc.gov.

SUPPLEMENTARY INFORMATION: On August 3, 2018, NTIA and NHTSA published a joint final rule implementing revisions to the 911 Grant Program (47 CFR part 400) as a result of the enactment of the Next Generation 911 (NG911) Advancement Act of 2012. Final Rule, 83 FR 38051. The final rule was effective upon publication in the Federal Register. The regulatory text contained numbering errors in §§ 400.4 and 400.6. This correcting amendment corrects those errors.

List of Subjects in 47 CFR Part 400

Grant programs, Telecommunications, Emergency response capabilities (911).

Accordingly, 47 CFR part 400 is corrected by making the following correcting amendments:

PART 400—911 GRANT PROGRAM

1. The authority citation for part 400 continues to read as follows:

Authority: 47 U.S.C. 942.

§ 400.4 [Amended]

2. In § 400.4, redesignate paragraphs (b)(4) and the paragraph following it (which is incorrectly designated as (b)) as paragraphs (b)(4)(i) and (ii).

§ 400.6 [Amended]

3. In § 400.6(a), redesignate the second paragraph (a)(2) as paragraph (a)(3).

Dated: August 9, 2018.
Kathy D. Smith,
Chief Counsel, National Telecommunications and Information Administration.
John Donaldson,
Assistant Chief Counsel, National Highway Traffic Safety Administration.

[FR Doc. 2018-17423 Filed 8-13-18; 8:45 am]

BILLING CODE 3510-60-P